DEPARTMENT OF TRANSPORTATION

Federal Aviation Administration

14 CFR Part 39

[Docket No. FAA-2016-9075; Directorate Identifier 2016-NM-082-AD; Amendment 39-18890; AD 2017-10-16]

RIN 2120-AA64

Airworthiness Directives; The Boeing Company Airplanes

AGENCY: Federal Aviation Administration (FAA), DOT.

ACTION: Final rule.

SUMMARY: We are adopting a new airworthiness directive (AD) for certain The Boeing Company Model 787-8 and 787-9 airplanes. This AD was prompted by a report indicating that a portion of the sealant above the engine pylon between the wing skin and the vapor barrier might have been omitted. This AD requires an inspection for missing sealant in the seam on the outside and inside of the engine struts, and corrective actions if necessary. We are issuing this AD to address the unsafe condition on these products.

DATES: This AD is effective June 29, 2017.

The Director of the Federal Register approved the incorporation by reference of a certain publication listed in this AD as of June 29, 2017.

ADDRESSES: For service information identified in this final rule, contact Boeing Commercial Airplanes, Attention: Contractual & Data Services (C&DS), 2600 Westminster Blvd., MC 110-SK57, Seal Beach, CA 90740-5600; telephone 562-797-1717; Internet https://www.myboeingfleet.com. You may view this referenced service information at the FAA, Transport Airplane Directorate, 1601 Lind Avenue SW., Renton, WA. For information on the availability of this material at the FAA, call 425-227-1221. It is also available on the Internet at http://www.regulations.gov by searching for and locating Docket No. FAA-2016-9075.

Examining the AD Docket

You may examine the AD docket on the Internet at http://www.regulations.gov by searching for and locating Docket No. FAA-2016-9075; or in person at the Docket Management Facility between 9 a.m. and 5 p.m., Monday through Friday, except Federal holidays. The AD docket contains this AD, the regulatory evaluation, any comments received, and other information. The address for the Docket Office (phone: 800-647-5527) is Docket Management Facility, U.S. Department of Transportation, Docket Operations, M-30, West Building Ground Floor, Room W12-140, 1200 New Jersey Avenue SE., Washington, DC 20590.

FOR FURTHER INFORMATION CONTACT: David Lee, Aerospace Engineer, Propulsion Branch, ANM-140S, Seattle Aircraft Certification Office (ACO), FAA, 1601 Lind Avenue SW., Renton, WA 98057-3356; phone: 425-917-6501; fax: 425-917-6590; email: david.a.lee@faa.gov.

SUPPLEMENTARY INFORMATION:

Discussion

We issued a notice of proposed rulemaking (NPRM) to amend 14 CFR part 39 by adding an AD that would apply to certain The Boeing Company Model 787-8 and 787-9 airplanes. The NPRM published in the Federal Register on September 15, 2016 (81 FR 63433). The NPRM was prompted by a report indicating that a portion of the sealant above the engine pylon between the wing skin and the vapor barrier might have been omitted. The NPRM proposed to require an inspection for missing sealant in the seam on the outside and inside of the engine struts, and corrective actions if necessary. We are issuing this AD to detect and correct missing sealant above the engine pylon between the wing skin and the vapor barrier, which can create an unintended leak path for fuel, potentially draining onto the aft fairing heat shield above the engine and onto hot engine parts or brakes, which could lead to a major ground fire.

Comments

We gave the public the opportunity to participate in developing this AD. The following presents the comments received on the NPRM and the FAA's response to each comment.

Support for the NPRM

Boeing and United Airlines (UAL) expressed support for the NPRM.

Request To Refer to Revised Service Information

UAL requested that we revise the proposed AD to refer to Issue 002 of Boeing Alert Service Bulletin B787-81205-SB570029-00. UAL stated that it disagrees with the finish requirement being an RC task. UAL pointed out that there is already an airworthiness limitation (AWL)/Critical Design Configuration Control Limitations (CDCCL) task, 51-AWL-01, for a paint requirement on the wing, resulting in a redundant AD requirement. UAL explained that Boeing plans to revise the service information to remove the requirement for applying finish over the newly applied sealant as a required for compliance (RC) task.

We do not agree with UAL's request to revise this AD. When we incorporate service information by reference, we refer to approved or published service information. At the time of this action, Issue 002 of Boeing Alert Service Bulletin B78781205-SB570029-00 is not approved or published. We do not consider that delaying this action until after the release of a service bulletin revision is warranted. Boeing Alert Service Bulletin B787-81205-SB570029-00, Issue 001, dated February 23, 2016, provides instructions that adequately address the missing sealant above the engine pylon between the wing skin and the vapor barrier, and provides the necessary steps to restore the finish disturbed by the required work.

In addition, although UAL stated that Boeing plans to eliminate the RC designation for the finish restoration steps, Boeing has not received agreement from the FAA that such a proposal would be approved. The proper restoration of the finish, and particularly the thickness of the entire set of finish layers, is safety critical for the reasons stated in the related AWL. We do not view the AD requirement for finish restoration to be redundant relative to the AWL. The AWL requires that, following maintenance, alteration, and repair activity, the finish must be restored to the specifications contained in the AWL. We, therefore, expect the data used for any maintenance, alteration, or repair activity that disturbs that finish (in this case Boeing Alert Service Bulletin B787-81205-SB570029-00, Issue 001, dated February 23, 2016) to contain instructions that result in restoration of the finish to the standard contained in the AWL. For these reasons, we do not agree with elimination of the RC designation for the referenced steps.

We also do not agree that an operator can develop their own alternative finish restoration procedures without FAA or Boeing Commercial Airplanes Organization Designation Authorization (ODA) engineering review and approval of an alternative method of compliance (AMOC) in accordance with the procedures specified in paragraph (h) of this AD. We have not changed this AD in this regard.

Conclusion

We reviewed the relevant data, considered the comments received, and determined that air safety and the public interest require adopting this AD as proposed, except for minor editorial changes. We have determined that these minor changes:

• Are consistent with the intent that was proposed in the NPRM for correcting the unsafe condition; and

• Do not add any additional burden upon the public than was already proposed in the NPRM.

Related Service Information Under 1 CFR Part 51

We reviewed Boeing Alert Service Bulletin B787-81205-SB570029-00, Issue 001, dated February 23, 2016. The service information describes procedures for doing an inspection for missing sealant in the seam on the outside and inside of the engine struts, and installing missing sealant. This service information is reasonably available because the interested parties have access to it through their normal course of business or by the means identified in the ADDRESSES section.

Costs of Compliance

We estimate that this AD affects 32 airplanes of U.S. registry.

We estimate the following costs to comply with this AD:

Estimated Costs
Action | Labor cost | Parts cost | Cost per product | Cost on U.S. operators
Inspection | 3 work-hours × $85 per hour = $255 | $0 | $255 | $8,160

We estimate the following costs to do any necessary repairs that will be required based on the results of the inspection. We have no way of determining the number of aircraft that might need these repairs:

On-Condition Costs
Action | Labor cost | Parts cost | Cost per product
Repair | Up to 3 work-hours × $85 per hour = $255 | (¹) | (¹)
¹ We have received no definitive data that will enable us to provide cost estimates for the on-condition material costs specified in this AD.

According to the manufacturer, some of the costs of this AD may be covered under warranty, thereby reducing the cost impact on affected individuals. We do not control warranty coverage for affected individuals. As a result, we have included all available costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2017-10-16 The Boeing Company: Amendment 39-18890; Docket No. FAA-2016-9075; Directorate Identifier 2016-NM-082-AD.

(a) Effective Date

This AD is effective June 29, 2017.

(b) Affected ADs

None.

(c) Applicability

This AD applies to The Boeing Company Model 787-8 and 787-9 airplanes, certificated in any category, as identified in Boeing Alert Service Bulletin B787-81205-SB570029-00, Issue 001, dated February 23, 2016.

(d) Subject

Air Transport Association (ATA) of America Code 57, Wings.

(e) Unsafe Condition

This AD was prompted by a report indicating that a portion of the sealant above the engine pylon between the wing skin and the vapor barrier might have been omitted. We are issuing this AD to detect and correct missing sealant above the engine pylon between the wing skin and the vapor barrier, which can create an unintended leak path for fuel, potentially draining onto the aft fairing heat shield and onto hot engine parts or brakes, which could lead to a major ground fire.

(f) Compliance

Comply with this AD within the compliance times specified, unless already done.

(g) Inspection and Corrective Actions

Within 60 months after the effective date of this AD: Do a general visual inspection for missing sealant in the seam on the outside and inside of the engine struts, in accordance with the Accomplishment Instructions of Boeing Alert Service Bulletin B787-81205-SB570029-00, Issue 001, dated February 23, 2016. Do all applicable corrective actions before further flight, in accordance with the Accomplishment Instructions of Boeing Alert Service Bulletin B787-81205-SB570029-00, Issue 001, dated February 23, 2016.

(h) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (i) of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair, modification, or alteration required by this AD if it is approved by the Boeing Commercial Airplanes Organization Designation Authorization (ODA) that has been authorized by the Manager, Seattle ACO, to make those findings. To be approved, the repair method, modification deviation, or alteration deviation must meet the certification basis of the airplane, and the approval must specifically refer to this AD.

(4) For service information that contains steps that are labeled as Required for Compliance (RC), the provisions of paragraphs (h)(4)(i) and (h)(4)(ii) of this AD apply.

(i) The steps labeled as RC, including substeps under an RC step and any figures identified in an RC step, must be done to comply with the AD. If a step or sub-step is labeled “RC Exempt,” then the RC requirement is removed from that step or sub-step. An AMOC is required for any deviations to RC steps, including substeps and identified figures.

(ii) Steps not labeled as RC may be deviated from using accepted methods in accordance with the operator's maintenance or inspection program without obtaining approval of an AMOC, provided the RC steps, including substeps and identified figures, can still be done as specified, and the airplane can be put back in an airworthy condition.

(i) Related Information

For more information about this AD, contact David Lee, Aerospace Engineer, Propulsion Branch, ANM-140S, Seattle ACO, FAA, 1601 Lind Avenue SW., Renton, WA 98057-3356; phone: 425-917-6501; fax: 425-917-6590; email: david.a.lee@faa.gov.

(j) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Boeing Alert Service Bulletin B787-81205-SB570029-00, Issue 001, dated February 23, 2016.

(ii) Reserved.

(3) For service information identified in this AD, contact Boeing Commercial Airplanes, Attention: Contractual & Data Services (C&DS), 2600 Westminster Blvd., MC 110-SK57, Seal Beach, CA 90740-5600; telephone 562-797-1717; Internet https://www.myboeingfleet.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on May 8, 2017.
Michael Kaszycki,
Acting Manager, Transport Airplane Directorate, Aircraft Certification Service.

[FR Doc. 2017-10283 Filed 5-24-17; 8:45 am]

BILLING CODE 4910-13-P